DEPARTMENT OF TRANSPORTATION

Federal Aviation Administration (FAA)

Notice of Opportunity for Public Comment on Surplus Property Release at Craig Field Airport, Selma, AL

AGENCY: Federal Aviation Administration (FAA), DOT.

ACTION: Notice of intent to rule on land release request.

SUMMARY: Under the provisions of title 49, U.S.C. 47153(c), notice is being given that the FAA is considering a request from the Craig Field Airport and Industrial Authority to waive the requirement that a 7.04-acre parcel of surplus property, located at the Craig Field Airport, be used for aeronautical purposes.

DATES: Comments must be received on or before July 1, 2004.

ADDRESSES: Comments on this notice may be mailed or delivered in triplicate to the FAA at the following address: Jackson Airports District Office, 100 West Cross Street, Suite B, Jackson, MS 39208-2307.

In addition, one copy of any comments submitted to the FAA must be mailed or delivered to Mr. Menzo W. Driskell, Executive Director of the Craig Field Airport and Industrial Authority at the following address: Craig Field and Industrial Authority, 48 Fifth Street; Craig Industrial Park; Selma, AL 36701.

FOR FURTHER INFORMATION CONTACT: Mr. Roderick T. Nicholson, Program Manager, Jackson Airports District Office, 100 West Cross Street, Suite B, Jackson, MS 39208-2307, (601) 664-9884. The land release request may be reviewed in person at this same location.

SUPPLEMENTARY INFORMATION: The FAA is reviewing a request by the Craig Field Airport and Industrial Authority to release 7.04 acres of surplus property at the Craig Field Airport. The property land use is currently agricultural. The net proceeds from the sale of this property will be used for airport purposes.

Any person may inspect the request in person at the FAA office listed above under FOR FURTHER INFORMATION CONTACT.

In addition, any person may, upon request, inspect the request, notice and other documents germane to the request in person at the city of Selma.

Issued in Jackson, Mississippi, on May 25, 2004.
Rans D. Black,
Manager, Jackson Airports District Office, Southern Region.

[FR Doc. 04-12327 Filed 5-28-04; 8:45 am]

BILLING CODE 4910-13-M